FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201229-002.

Agreement Name: Marine Terminal Services Agreement Port of Houston Authority and Maersk Line A/S.

Parties: Port of Houston Authority and Maersk Line A/S.

Filing Party: Chasless Yancy; Port of Houston Authority.

Synopsis: The amendment revises the Consumer Price Index adjustment month for the MTSA from October to July.

Proposed Effective Date: 3/6/2019.

Location: https://www2.fmc.gov/FMC.Agreements.Web/Public/AgreementHistory/2076.

Agreement No.: 012212-004.

Agreement Name: NYK/Grimaldi Cooperative Working Agreement.

Parties: Nippon Yusek Kaisha; and Grimaldi Deep Sea S.P.A. and Grimaldi Euromed S.P.A. (acting as a single party).

Filing Party: Wayne Rohde; Cozen O'Connor.

Synopsis: The amendment converts the Agreement from a one-way space charter to a reciprocal space charter arrangement.

Proposed Effective Date: 3/6/2019.

Location: https://www2.fmc.gov/FMC.Agreements.Web/Public/AgreementHistory/262.

Agreement No.: 201291.

Agreement Name: Turkon/Hapag-Lloyd Space Charter and Sailing Agreement.

Parties: Hapag-Lloyd AG and Turkon Konteyner Tasimacilik ve Denizcilik A.S.

Filing Party: Wayne Rohde; Cozen O'Connor.

Synopsis: The Agreement authorizes the parties to operate a service between the U.S. Atlantic Coast and ports in Spain, Turkey, and Egypt. The parties request expedited review.

Proposed Effective Date: 4/21/2019.

Location: https://www2.fmc.gov/FMC.Agreements.Web/Public/AgreementHistory/21339.

Dated: March 8, 2019,
Rachel Dickon,
Secretary.

[FR Doc. 2019-04637 Filed 3-12-19; 8:45 am]

BILLING CODE 6731-AA-P